FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

Green Sea Logistics, Arag Chamber, 3rd FL, 68 Agrabad C/A, Chittagong 4100, Bangladesh. Officers: Mohammed Abul Hashem, Managing Partner (Qualifying Individual), Mohammad Zonaid, Partner.

T & T Shipping Services of New York, Inc., 820 Glenmore Avenue, Brooklyn, NY 11208. Officers: Corny C. Francis, Vice President (Qualifying Individual), Patrick Turner, President.

HJM International of NY, Inc., 153-39 Rockaway Blvd., Jamaica, NY 11434. Officers: Raymond Mandil, President (Qualifying Individual), Mireille Drabmann, Secretary.

Non-Vessel Operating Common Carrier and Ocean Freight Forwarder Transportation Intermediary Applicants

Advance Cargo Corporation, 7921 NW 66th Street, Miami, FL 33166. Officer: Gabriela Olivera, President (Qualifying Individual).

Freight Brokers Italia, Inc., 32 Raymond Avenue, Chestnut Ridge, NY 10977. Officer: Rosario Vizzari, President (Qualifying Individual).

Express International Freight, LLC., 8385 NW 74 Street, Miami, FL 33166. Officers:Ana Aguilar, Manager (Qualifying Individual), Waldo Ordonez, Director.

Ocean Freight Forwarder—Ocean Transportation Intermediary Applicants

Auto Transport USA, Inc., 3020 Lions Ct., Kissimmee, FL 34744-1539. Officers:Manuel Mercado, President (Qualifying Individual).

Doris M. Mercado, Vice President, Planet Freight Services, Inc., 1744 NW 82 Avenue, Doral, FL 33126. Officer:Marco Antonio Oliverira, President (Qualifying Individual).

IVI International Corp dba IVI International Freight Forwarders, 8075 NW. 68th Street, Miami, FL 33166. Officer:Ivan Israel Chavarria, President (Qualifying Individual).

Bryant L. VanBrakle,
Secretary.

[FR Doc. E7-15564 Filed 8-8-07; 8:45 am]

BILLING CODE 6730-01-P